DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5:00 P.M. in Room 4211, U.S. Department of Commerce, 14th Street and Constitution Avenue, NW., Washington, DC.

Docket Number: 00-006R. Applicant: LDS Hospital (Intermountain Health Care), 8th Avenue & C Street, Salt Lake City, UT 84143. Instrument: Electron Microscope, Model JEM-1010. Manufacturer: JEOL Ltd., Japan. Intended Use: The instrument is intended to be used in support of ongoing research activities that involve three discrete ongoing projects: (a) Studies involving a large number of lung cancer trials that will include evaluation of lung cancer by electron microscopy, (b) evaluation of the sub-constituents of the vocal matrix using ultrastructural immunocytochemistry and histochemical procedures and (c) evaluation of cardiac muscle biopsies and transplant biopsies. Original notice of this resubmitted application was published in the Federal Register of April 6, 2000.

Docket Number: 00-016. Applicant: University of Washington, Physics Department, Physics-Astronomy Building, Box 351560, Seattle, WA 98195-1560. Instrument: Scanning Tunneling Microscope. Manufacturer: Omicron Associates, Germany. Intended Use: The instrument is intended to be used to study growth, etching and interface formation of inorganic materials, with primary emphasis on systems where at least one constituent is insulating or transparent. The materials of interest include calcium fluoride, gallium selenide, gallium-aluminum nitride, zinc oxide, silicon and water ice. The objectives of the investigations will include: (a) Developing new means to fabricate quantum nanostructure of desired morphology on insulating substrates, (b) establishing a unifying framework for growing wide band-gap material on dissimilar substrates and (c) obtaining quantifiable correlations between thermodynamic properties (heats of formation and adsorption), kinetic growth processing (islanding, nucleation), and nanostructure properties (catalytic activity, electron transport). In addition, the instrument will be used in various chemistry, physics and materials science and engineering courses to obtain data, learn how to conduct scientific research and how to interpret the results. Application accepted by Commissioner of Customs: June 22, 2000.

Docket Number: 00-017. Applicant: Lehigh University, Physics Department, 16 Memorial Drive East, Bethlehem, PA 18015. Instrument: Raman Fiber Laser. Manufacturer: Optocom Innovation, France. Intended Use: The instrument is intended to be used for further studies of stimulated Raman scattering in silica-based optical fibers. These studies will involve performing pump probe experiments, in which both a pump (the Raman converter) and a tunable signal are injected into an optical fiber. The pump energy will be transferred to the signal. The amount of energy transferred depends on the vibrational properties of the glass. By tuning the frequency difference between the pump and the sign, it is possible to probe the different vibrations in the glass, including those responsible for the Boson peak and broad band. Application accepted by Commissioner of Customs: May 30, 2000.

Docket Number: 00-018. Applicant: National Institute of Standards and Technology, U.S. Department of Commerce, 100 Bureau Drive, Gaithersburg, MD 20899-8371. Instrument: Auger Microprobe, Model JAMP-7830F. Manufacturer: JEOL Ltd., Japan. Intended Use: The instrument is intended to be used for the study of metals, ceramics and glasses; semiconductor, microelectronic and optoelectronic devices; thin film samples, multi-layered materials and protective coatings, fracture surfaces diffusion couples, and failure analysis specimens; microprecipitates, microparticles and nanoparticles; analysis standards, candidates for reference materials and numerous other specimen types. The instrument will be used in investigations to: (a) Determine the thickness of surface coatings and layered material by combination of ion sputtering, Auger electron spectroscopy, multiple accelerating potential x-ray emission analysis, and ultimately microfocusing x-ray photoelectron spectroscopy and (b) determine composition heterogeneity (both in terms of included phases and surface coatings in individual microparticles and nanoparticles). The objective of these experiments is to provide standards, standard data and standard measurement methods that strengthen the U.S. economy and improve the quality of life. Application accepted by Commissioner of Customs: June 14, 2000.

Docket Number: 00-019. Applicant: University of Illinois at Urbana-Champaign, 207 Henry Administration Building, 506 S. Wright Street, Urbana, IL 61801. Instrument: E-beam Evaporator and Flux Controller, Model EGN4. Manufacturer: Oxford Applied Research, United Kingdom. Intended Use: The instrument is intended to be used to carry out experiments with the following objectives: (a) Achieve in-depth understanding of the formation of epitaxial cobalt-silicide (CoSi2) on silicon-germanium (SiGe) substrate, (b) study the interaction of cobalt atoms with silicon substrate with the presence of germanium atoms and understand the role of germanium atoms during expitaxial (CoSi2) growth and (c) investigate the effect of cobalt flux and substrate temperature during cobalt evaporation on the properties of the final epitaxial (CoSi2) film. Application accepted by Commissioner of Customs: June 1, 2000.

Docket Number: 00-022. Applicant: California Association for Research in Astronomy, 65-1120 Mamalahoa Highway, Kamuela, HI 96743. Instrument: (4) Outrigger Observatories. Manufacturer: Electro Optic Systems Pty Limited, Australia. Intended Use: The instrument is intended to be used to form an interferometer (a system of telescopes) which will be used to search for planets outside our solar system. Application accepted by Commissioner of Customs: July 5, 2000.

Frank W. Creel,
Director, Statutory Import Programs Staff.

[FR Doc. 00-19541 Filed 8-1-00; 8:45 am]

BILLING CODE 3510-DS-P